DEPARTMENT OF COMMERCE

National Oceanic and Atmospheric Administration

RIN: 0648-XK87

Gulf of Mexico Fishery Management Council; Public Meetings

AGENCY: National Marine Fisheries Service (NMFS), National Oceanic and Atmospheric Administration (NOAA), Commerce.

ACTION: Notice of a public meeting.

SUMMARY: The Gulf of Mexico Fishery Management Council will convene a public meeting of the Ad Hoc Recreational Red Snapper Advisory Panel (AP).

DATES: The meeting will convene at 9 a.m. on Monday, October 20, 2008 and conclude no later than 3 p.m. on Tuesday, October 21, 2008.

ADDRESSES: This meeting will be held at the LaQuinta Inn, 2610 Williams Boulevard, Kenner, LA 70062; telephone: (504) 466-1401.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The Council previously reviewed 27 recommendations from the AP for improving recreational red snapper management, and selected four of the recommendations for further review. Those recommendations include: (1) regional management of recreational red snapper fishing; (2) recreational reef fish permitting system with red snapper endorsement; (3) limited access privilege programs in the for-hire and private recreational sectors; and (4) catch cards and fish tag systems. At this meeting, the AP will discuss issues and possible alternatives to consider for each of these ideas, and will provide recommendations back to the Council for possible further development.

Although other non-emergencyissues not on the agenda may come before the panel for discussion, in accordance with the Magnuson-Stevens Fishery Conservation and Management Act (Magnuson-Stevens Act), those issues may not be the subject of formal panel action during this meeting. Panel action will be restricted to those issues specifically identified in the agenda and any issues arising after publication of this notice that require emergency action under Section 305(c) of the Magnuson-Stevens Act, provided the public has been notified of the Council's intent to take action to address the emergency.

A copy of the agenda can be obtained by calling (813) 348-1630.

Special Accommodations

This meeting is physically accessible to people with disabilities. Requests for sign language interpretation or other auxiliary aids should be directed to Tina O'Hern at the Council (see ADDRESSES) at least 5 working days prior to the meeting.

Dated: October 1, 2008.
Tracey L. Thompson,
Acting Director, Office of Sustainable Fisheries, National Marine Fisheries Service.

[FR Doc. E8-23545 Filed 10-3-08; 8:45 am]

BILLING CODE 3510-22-S